FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 17, 2000.

A. Federal Reserve Bank of San Francisco (Maria Villanueva, Consumer Regulation Group) 101 Market Street, San Francisco, California 94105-1579:

1. Alan E. Knudson and the Knudson Family Trust, Draper, Utah, to retain voting shares of Silver State Bancorp, Henderson, Nevada, and thereby indirectly acquire voting shares of Silver State Bank, Henderson, Nevada.

Board of Governors of the Federal Reserve System, April 27, 2000.
Robert deV. Frierson,
Associate Secretary of the Board.

[FR Doc. 00-10964 Filed 5-2-00; 8:45 am]

BILLING CODE 6210-01-P